DEPARTMENT OF LABOR

Employment and Training Administration

[TA-W-54,068]

American Lock Co., Crete, IL; Notice of Termination of Investigation

Pursuant to section 221 of the Trade Act of 1974, as amended, an investigation was initiated on January 23, 2004, in response to a petition filed by the company on behalf of workers at American Lock Company, Crete, Illinois.

The petitioner has requested that the petition be withdrawn. Consequently, further investigation in this case would serve no purpose, and the investigation has been terminated.

Signed at Washington, DC, this 17th day of February, 2004.
Elliott S. Kushner,
Certifying Officer, Division of Trade Adjustment Assistance.

[FR Doc. 04-5084 Filed 3-5-04; 8:45 am]

BILLING CODE 4510-30-P